DEPARTMENT OF TRANSPORTATION

Federal Aviation Administration

Seventh Meeting: RTCA Special Committee 206/EUROCAE WG 44/53 Plenary: Aeronautical Information Services Data Link

AGENCY: Federal Aviation Administration (FAA), DOT.

ACTION: Notice RTCA Special Committee 206 meeting.

SUMMARY: The FAA is issuing this notice to advise the public of a meeting of RTCA Special Committee 206: Aeronautical Information Services Data Link.

DATES: The meeting will be held December 4-8, 2006, from 9 a.m. to 5 p.m.

ADDRESSES: The meeting will be held at Sofitel Hotel, 84 allees Jean Jaures, 31000 Toulouse, France.

FOR FURTHER INFORMATION CONTACT: (1) RTCA Secretariat, 1828 L Street, NW., Suite 805, Washington, DC, 20036-5133; telephone (202) 833-9339; fax (202) 833-9434; Web site http://www.rtca.org; (2) Hosted by Airbus and Thales; Onsite Contact: telephone (+33)5/61102310; fax (+33)5/61102320; e-mail H1091-RE@accor.com; Web site http://www.sofitel.com/sofitel/fichehotel/fr/sof/1091/fiche hotel.shtml.

SUPPLEMENTARY INFORMATION: Pursuant to section 10(a)(2) of the Federal Advisory Committee Act (Pub. L. 92-463, 5 U.S.C., Appendix 2), notice is hereby given for a Special Committee 206 meeting. The agenda will include:

• December 4:

• Opening Session (Chairman's Remarks and Introductions, Review and Approve Meeting Agenda and Minutes, Discussion, Action Item Review, Presentations)

• Presentations: Pending

• Breakout meetings of Subgroup 1 and Subgroup 2

• December 5:

• Subgroup 1 and Subgroup 2 Meetings

• December 7:

• Subgroup 1 and Subgroup 2 Meetings

• December 8:

• Subgroup 1 and Subgroup 2 Meetings

• Closing Session (Other Business, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC on November 7, 2006.
Francisco Estrada C.,
RTCA Advisory Committee.

[FR Doc. 06-9365 Filed 11-22-06; 8:45 am]

BILLING CODE 4910-13-M